COMMISSION ON CIVIL RIGHTS

Sunshine Act, Meeting

DATE AND TIME: Friday, December 16, 2005, 9 a.m., Commission Meeting.

PLACE: Rayburn House Office Building, Room 2226, Washington, DC 20515.

STATUS:

Agenda

I. Approval of Agenda.

II. Approval of Minutes of November 18, 2005 Meeting.

III. Announcements.

IV. State Advisory Committees.

• Working Group on SAC Reform.

• Arizona SAC Report.

V. Program Planning.

• Voting Rights Act: FY 2006 Statutory Report.

• Campus Anti-Semitism.

VI. Briefing Reports.

• Voting Rights Act Briefing Report.

• Campus Anti-Semitism Briefing.

VII. Future Briefings.

• Minority Categorization in the Census.

VIII. Commission Briefing: Disparity Studies.

• Introductory Remarks by Chairman.

• Speakers' Presentations.

• Questions by Commissioners and Staff Director.

IX. Staff Director's Report.

X. Future Agenda Items.

FOR FURTHER INFORMATION CONTACT: Terri Dickerson, Press and Communications, (202) 376-8582.

Kenneth L. Marcus,
Staff Director, Acting General Counsel.

[FR Doc. 05-23887 Filed 12-6-05; 4:45 pm]

BILLING CODE 6335-01-M